DEPARTMENT OF THE INTERIOR

National Park Service

[NPS-WASO-NRNHL-DTS#-40135; PPWOCRADI0, PCU00RP14.R50000]

National Register of Historic Places; Notification of Pending Nominations and Related Actions

AGENCY: National Park Service, Interior.

ACTION: Notice.

SUMMARY: The National Park Service is soliciting electronic comments on the significance of properties nominated before April 26, 2025, for listing or related actions in the National Register of Historic Places.

DATES: Comments should be submitted electronically by May 28, 2025.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 2013, Washington, DC 20240.

FOR FURTHER INFORMATION CONTACT: Sherry A. Frear, Chief, National Register of Historic Places/National Historic Landmarks Program, 1849 C Street NW, MS 2013, Washington, DC 20240, sherry_frear@nps.gov, 202-913-3763.

SUPPLEMENTARY INFORMATION: The properties listed in this notice are being considered for listing or related actions in the National Register of Historic Places. Nominations for their consideration were received by the National Park Service before April 26, 2025. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

Key: State, County, Property Name, Multiple Name (if applicable), Address/Boundary, City, Vicinity, Reference Number

DELAWARE

New Castle County

Independence Mall, 1601 Concord Pike, Wilmington vicinity, SG100011906

HAWAII

Hawaii County

John J., Sr. and Rose Andrade Property, 45-493 Lehua Street, Honokaa, SG100011893

MARYLAND

Charles County

Hughesville Commercial and Tobacco Warehouse Historic District, Old Leonardtown and Burnt Store-Prince Frederick Roads, Hughesville, SG100011907

Worcester County

Pocomoke River Bridge, (Historic Highway Bridges of Maryland, 1694-1965 MPS), US 13 Business/Market Street over Pocomoke River, Pocomoke City, MP100011896

Snow Hill Drawbridge, (Historic Highway Bridges of Maryland, 1694-1965 MPS), MD 12/North Washington Street over Pocomoke River, Snow Hill, MP100011897

NEW YORK

New York County

Corsi Houses, 306 East 117th Street, Manhattan, SG100011889

Morris Park Senior Citizens Home, 17 E 124th Street, New York, SG100011890

Onondaga County

Utica Mutual Insurance Building, 420 E Genesee Street, Syracuse, SG100011891

Syracuse Boys Club, 430 E Genesee Street, Syracuse, SG100011899

Schenectady County

St. George's Lodge No. 6 Masonic Temple and Club, 302 State Street, Schenectady, SG100011892

NORTH DAKOTA

Cass County

First Presbyterian Church, 620 Second Avenue North, Fargo, SG100011895

OHIO

Hamilton County

Burroughs, C.H., House-Cincinnati Federation of Colored Women's Clubs (Additional Documentation)

(Hannaford, Samuel, & Sons TR), 1010 Chapel St., Cincinnati, MP80003039

OKLAHOMA

Oklahoma County

Perrine Building, 119 N Robinson Avenue, Oklahoma City, SG100011886

Carverdale Historic District, Bound by East Park Place, Bellevidere Drive and Windemere Avenue, Oklahoma City, SG100011887

Woods County

Turkey Springs Battlefield, Address Restricted, Freedom vicinity, SG100011885

TEXAS

Galveston County

Christensen Castle, 12902 Hwy. 6, Santa Fe, SG100011883

VIRGINIA

Lynchburg INDEPENDENT CITY

Hunton Branch YMCA, 1120 12th Street, Lynchburg, SG100011894

WASHINGTON

Douglas County

45DO1412, (Spiritually Significant Rock Features of the Southern Columbia Plateau and Okanogan Highlands MPS), Address Restricted, Palisades, MP100011877

45DO1413, (Spiritually Significant Rock Features of the Southern Columbia Plateau and Okanogan Highlands MPS), Address Restricted, Palisades vicinity, MP100011878

45DO1414, (Spiritually Significant Rock Features of the Southern Columbia Plateau and Okanogan Highlands MPS), Address Restricted, Palisades vicinity, MP100011879

45DO1415, (Spiritually Significant Rock Features of the Southern Columbia Plateau and Okanogan Highlands MPS), Address Restricted, Palisades vicinity, MP100011880

45DO1416, (Spiritually Significant Rock Features of the Southern Columbia Plateau and Okanogan Highlands MPS), Address Restricted, Palisades vicinity, MP100011900

45DO1417, (Spiritually Significant Rock Features of the Southern Columbia Plateau and Okanogan Highlands MPS), Address Restricted, Palisades vicinity, MP100011901

45DO1418, (Spiritually Significant Rock Features of the Southern Columbia Plateau and Okanogan Highlands MPS), Address Restricted, Palisades vicinity, MP100011902

45DO1419, (Spiritually Significant Rock Features of the Southern Columbia Plateau and Okanogan Highlands MPS), Address Restricted, Palisades vicinity, MP100011903

45DO1421, (Spiritually Significant Rock Features of the Southern Columbia Plateau and Okanogan Highlands MPS), Address Restricted, Palisades vicinity, MP100011904

Additional documentation has been received for the following resource(s):

HAWAII

Hawaii County

Moku'aikaua Church (Additional Documentation), 75-5713 Ali'i Drive, Kailua-Kona, AD78001015

OHIO

Stark County

Upper Downtown Canton Historic District (Additional Documentation), Market Ave., bet. Sixth St. N and 2nd St. S, E to W variable Boundary, Canton, AD06000202

SOUTH CAROLINA

Dillon County

Latimer High and Elementary School (Additional Documentation), 122 Latimer Street, Latta, AD100010400

UTAH

Salt Lake County

Japanese Church of Christ (Additional Documentation), (Salt Lake City Business District MRA), 268 W 100 South, Salt Lake City, AD82004144

Authority: Section 60.13 of 36 CFR part 60.

Sherry A. Frear,
Chief, National Register of Historic Places/National Historic Landmarks Program.

[FR Doc. 2025-08336 Filed 5-12-25; 8:45 am]

BILLING CODE 4312-52-P